CONSUMER PRODUCT SAFETY COMMISSION

Petition Requesting Ban of Sulfuric Acid Drain Openers for Consumer Use (Petition No. HP 04-2)

AGENCY: Consumer Product Safety Commission.

ACTION: Notice.

SUMMARY: The United States Consumer Product Safety Commission (Commission or CPSC) has received a petition (HP 04-2) requesting that the Commission ban sulfuric acid drain openers (SADOs) for consumer use, or in the alternative, require that SADOs for consumers be packaged in “one-shot” containers and be limited to a maximum sulfuric acid concentration of 84 percent. The Commission solicits written comments concerning the petition.

DATES: The Office of the Secretary must receive comments on the petition by July 6, 2004.

ADDRESSES: Comments on the petition, preferably in five copies, should be mailed to the Office of the Secretary, Consumer Product Safety Commission, Washington, DC 20207, telephone (301) 504-7923, or delivered to the Office of the Secretary, Room 502, 4330 East-West Highway, Bethesda, Maryland 20814. Comments may also be filed by facsimile to (301) 504-0127 or by e-mail to cpsc-os@cpsc.gov. Comments should be captioned “Petition HP 04-2, Petition for Ban on Sulfuric Acid Drain Openers for Consumer Use.” A copy of the petition is available for inspection at the Commission's Public Reading Room, Room 419, 4330 East-West Highway, Bethesda, Maryland. The petition is also available on the CPSC Web site at http://www.cpsc.gov.

FOR FURTHER INFORMATION CONTACT: Rockelle Hammond, Office of the Secretary, Consumer Product Safety Commission, Washington, DC 20207; telephone (301) 504-6833, e-mail rhammond@cpsc.gov.

SUPPLEMENTARY INFORMATION: The Commission has received correspondence from Mr. Michael Fox requesting that the Commission ban SADOs for consumer use, or in the alternative, require that SADOs for consumers be packaged in “one-shot” containers and be limited to a maximum sulfuric acid concentration of 84 percent.

Mr. Fox asserts that such action is necessary because “sulfuric acid drain cleaners (SADOs) are unreasonably dangerous and should not be sold to ordinary consumers.” Mr. Fox provides injury data that he asserts supports that proposition.

The request for a ban or a restriction to packaging in “one-shot” containers with a limit on sulfuric acid concentration of a maximum of 84 percent is docketed as petition number HP 04-2 under the Federal Hazardous Substances Act, 15 U.S.C. 1261-1278.

Interested parties may obtain a copy of the petition by writing or calling the Office of the Secretary, Consumer Product Safety Commission, Washington, DC 20207; telephone (301) 504-7923. The petition is available on the CPSC Web site at http://www.cpsc.gov. A copy of the petition is also available for inspection from 8:30 a.m. to 5 p.m., Monday through Friday, in the Commission's Public Reading Room, Room 419, 4330 East-West Highway, Bethesda, Maryland.

Dated: April 28, 2004.
Todd A. Stevenson,
Secretary, Consumer Product Safety Commission.

[FR Doc. 04-10162 Filed 5-4-04; 8:45 am]

BILLING CODE 6355-01-P